DEPARTMENT OF ENERGY

Federal Energy Regulatory Commission

Notice of Combined Notice of Filings for “ES” Dockets

March 1, 2006.

Take notice that, effective March 15, 2006, the Commission will include “Applications for Authorization of the Issuance of Securities or the Assumption of Liabilities” under 18 CFR 34 in Combined Notices of Filings for publication in the Federal Register. Due to the anticipated increase in the number of “ES” filings, the Commission will no longer issue individual notices for these filings, except in the case of Errata notices pertaining to these filings. A Combined Notice of Filings may include both “ER” (electric rate) and “ES” dockets.

The Secretary of the Commission is making the following changes to the filing procedures for “Applications for Authorization of the Issuance of Securities or the Assumption of Liabilities” received on or after March 15, 2006:

1. A draft form of notice and diskette are no longer required for “ES” filings.

2. Filers requesting a comment period shorter than the standard 21 days after the filed date must clearly state such request in the “Re:” section of the filing. For example:

Re: Hot Spring Power Company, Docket No. ES05__, Request for shortened comment period.

The notices issued under the combined notice method will be added to eLibrary and published in the Federal Register under the name “Combined Notice of Filings.” The notices will list up to 20 “ER” and “ES” docketed filings that are already in eLibrary. The listing for each filing will include:

Docket Number: This docket number is a hyperlink to the eLibrary docket sheet.

Applicant(s): The applicant name(s) as it appears on the filing.

Description: A basic description of the filing that is a hyperlink to the document in eLibrary.

Filed Date: The date the document was filed with the Secretary of the Commission.

Accession Number: The eLibrary accession number is a hyperlink to the “Info” area of eLibrary for the document. If the accession number for the filing changes after issuance of the combined notice, the user will have to search eLibrary to access the document.

Comment Date: This is the date/time for the filing of comments on the particular filing.

The Combined Notice of Filings will be indexed in eLibrary as: “Combined Notice of Filings, (date)” under each docket included in the notice. If the Commission issues more than one combined notice on any given day, the second notice will be indexed as: “Combined Notice of Filings, (date) #2” and so forth.

For general information about the Combined Notice of Filings method, contact Mary Lynch or Capria Johnson at 202-502-8400.

Magalie R. Salas,
Secretary.

[FR Doc. E6-3210 Filed 3-7-06; 8:45 am]

BILLING CODE 6717-01-P